NUCLEAR REGULATORY COMMISSION

[Docket No. 40-8084]

Rio Algom Mining LLC

AGENCY: Nuclear Regulatory Commission (NRC).

ACTION: Notice of receipt of Rio Algom Mining LLC's application for establishing alternate concentration limits in source material license SUA-1119 for the Lisbon, UT, facility and notice of opportunity for a hearing.

SUMMARY: Notice is hereby given that the Nuclear Regulatory Commission (NRC) has received, by letter dated May 22, 2002, an application from Rio Algom Mining LLC (Rio Algom) to establish Alternate Concentration Limits and amend the Source Material License No. SUA-1119 for the Lisbon uranium mill facility.

FOR FURTHER INFORMATION CONTACT: Jill S. Caverly, Fuel Cycle Facilities Branch, Division of Fuel Cycle Safety and Safeguards, Nuclear Regulatory Commission, Washington, DC 20555. Telephone (301) 415-6699.

SUPPLEMENTARY INFORMATION: The NRC hereby provides notice of an opportunity for a hearing on the license amendment under the provisions of 10 CFR part 2, subpart L, “Informal Hearing Procedures for Adjudications in Materials and Operator Licensing Proceedings.” Pursuant to § 2.1205(a), any person whose interest may be affected by this proceeding may file a request for a hearing. In accordance with § 2.1205(d), a request for hearing must be filed within 30 days of the publication of this notice in the Federal Register. The request for a hearing must be filed with the Office of the Secretary, ATTN: Rulemaking and Adjudications Staff, Washington, DC 20555:

(1) By delivery to the Rulemaking and Adjudications Staff of the Office of the Secretary at One White Flint North, 11555 Rockville Pike, Rockville, MD 20852; or

(2) By mail or telegram addressed to the Secretary, U.S. Nuclear Regulatory Commission, Washington, DC 20555, Attention: Rulemaking Adjudications Staff.

In accordance with 10 CFR 2.1205(f), each request for a hearing must also be served, by delivering it personally or by mail, to:

(1) The applicant, Rio Algom Mining LLC, 6305 Waterford Blvd., Suite 400, Oklahoma City, Oklahoma 73118, Attention: William Paul Goranson; and

(2) The NRC staff, by delivery to the General Counsel, One White Flint North, 11555 Rockville Pike, Rockville, MD 20852, or by mail addressed to the General Counsel, U.S. Nuclear Regulatory Commission, Washington, DC 20555.

In addition to meeting other applicable requirements of 10 CFR part 2 of the NRC's regulations, a request for a hearing filed by a person other than an applicant must describe in detail:

(1) The interest of the requestor in the proceeding;

(2) How that interest may be affected by the results of the proceeding, including the reasons why the requestor should be permitted a hearing, with particular reference to the factors set out in § 2.1205(h);

(3) The requestor's areas of concern about the licensing activity that is the subject matter of the proceeding; and

(4) The circumstances establishing that the request for a hearing is timely in accordance with § 2.1205(d).

The request must also set forth the specific aspect or aspects of the subject matter of the proceeding as to which petitioner wishes a hearing.

In addition, members of the public may provide comments on the subject application within 30 days of the publication of this notice in the Federal Register. The comments may be provided to the Chief, Rules and Directives Branch, Division of Administrative Services, Office of Administration, Nuclear Regulatory Commission, Washington DC 20555.

Dated at Rockville, Maryland, this 10th day of July 2002.
For the Nuclear Regulatory Commission.
Daniel M. Gillen,
Chief, Fuel Cycle Facilities Branch, Division of Fuel Cycle Safety and Safeguards Office of Nuclear Material Safety and Safeguards.

[FR Doc. 02-18747 Filed 7-23-02; 8:45 am]

BILLING CODE 7590-01-P